DEPARTMENT OF AGRICULTURE

Forest Service

Madera County Resource Advisory Committee

AGENCY: Forest Service, USDA.

ACTION: Notice of meeting.

SUMMARY: The Madera County Resource Advisory Committee will be meeting in North Fork, California on April 20th 2011. The purpose of the meeting will be to review the funding schedule for projects identified for approval at the March 30, 2011 meeting and to assign project monitoring responsibilities for the remainder of the year. The Madera County Resource Advisory Committee met in North Fork, California on March 30th 2011. The purpose of that meeting was to discuss and then vote on submitted proposals for funding as authorized under the Secure Rural Schools and Community Self-Determination Act of 2000 (Pub. L.110-343) for expenditure of Payments to States Madera County Title II funds.

DATES: The meeting will be held on April 20th, 2011.

ADDRESSES: The meetings will be held at the Bass Lake Ranger District, 57003 Road 225, North Fork, California 93643. Send written comments to Julie Roberts, Madera County Resource Advisory Committee Coordinator, c/o Sierra National Forest, Bass Lake Ranger District, at the above address, or electronically to jaroberts@fs.fed.us.

FOR FURTHER INFORMATION CONTACT: Julie Roberts, Madera County Resource Advisory Committee Coordinator, (559) 877-2218 ext. 3159.

SUPPLEMENTARY INFORMATION: The meeting is open to the public. Committee discussion is limited to Forest Service staff and Committee members. However, persons who wish to bring Payments to States Madera County Title II project matters to the attention of the Committee may file written statements with the Committee staff before or after the meetings.

Dated: April 4, 2011.
Dave Martin,
District Ranger.

[FR Doc. 2011-8511 Filed 4-8-11; 8:45 am]

BILLING CODE 3410-11-P